DEPARTMENT OF COMMERCE

National Oceanic and Atmospheric Administration

50 CFR Part 622

[I.D. 071602C]

Fisheries of the Caribbean, Gulf of Mexico, and South Atlantic; Fishery Management Plan for the Reef Fish Resources of the Gulf of Mexico; Secretarial Amendment 2; Public Hearings

AGENCY: National Marine Fisheries Service (NMFS), National Oceanic and Atmospheric Administration (NOAA), Commerce.

ACTION: Notice of public hearings; request for comments.

SUMMARY: The Gulf of Mexico Fishery Management Council (Council) will convene public hearings to receive comments on the Council’s proposed Secretarial Amendment 2 to the Reef Fish Fishery Management Plan (Secretarial Amendment 2) to set greater amberjack Sustainable Fisheries Act (SFA) targets and thresholds and to set a rebuilding plan.

DATES: The public hearings will be held in August. See SUPPLEMENTARY INFORMATION for specific dates and times.

ADDRESSES: Written comments should be sent to and copies of the scoping document are available from the Gulf of Mexico Fishery Management Council, 3018 U.S. Highway 301, North, Suite 1000, Tampa, FL 33619, telephone: (813) 228-2815.

FOR FURTHER INFORMATION CONTACT: Mr. Peter Hood, Fishery Biologist, Gulf of Mexico Fishery Management Council; telephone: (813) 228-2815.

SUPPLEMENTARY INFORMATION: The public hearings will be convened on Secretarial Amendment 2 to set greater amberjack SFA targets and thresholds and to set a rebuilding plan. The greater amberjack resource in the Gulf of Mexico was declared overfished by NMFS on February 9, 2001, and was based on the 2000 greater amberjack stock assessment. The results of several analyses indicated that the stock biomass was below the level needed to sustain harvest at maximum sustainable yield (MSY), with the best estimate indicating that the stock biomass was at less than half the biomass needed to sustain MSY, below the minimum level allowed under the 1998 NMFS National Standard Guidelines. However, NMFS concluded that overfishing is not currently occurring due to the recent implementation of management measures that were not reflected in the stock assessment. These measures included: (1) a reduction in the greater amberjack recreational bag limit from 3 to 1 fish (implemented 1997); (2) a commercial closed season during March, April and May (implemented 1998); and (3) partial protection of misidentified juvenile greater amberjack by establishment of a slot limit on lesser amberjack/banded rudderfish of 14 and 22 inches (35.6 and 55.9 cm) fork length plus an aggregate 5-fish recreational bag limit. As a result of this finding, additional measures to end overfishing are not needed, but a plan to rebuild the stock is needed.

Because NMFS has declared the stock overfished, the Council is required to rebuild the stock to a level where it is no longer considered overfished. Before a plan can be put into effect, management targets and thresholds that the stock needs to achieve must be defined. These are: definitions for MSY, optimum yield (OY), the minimum stock size threshold (MSST) below which a stock is considered to be overfished, the maximum fishing mortality threshold (MFMT) above which a stock is considered to be undergoing overfishing. The proposed amendment also provides alternative rebuilding plans that will rebuild the stock within 10 years or less and are based on various rebuilding strategies.

The public hearings will be held from 7 p.m. to 10 p.m. at the following locations and dates.

1. Tuesday, August 6, 2002: Texas A&M University, CLB Building Room 114, 200 Seawolf Parkway, Galveston, TX; telephone: 409-740-4736; and

2. Wednesday, August 7, 2002: City Hall Auditorium, 300 Municipal Drive, Madeira Beach, FL; telephone: 727-391-9951.

Special Accommodations

These meetings are physically accessible to people with disabilities. Requests for sign language interpretation or other auxiliary aids should be directed to Anne Alford at the Council (see ADDRESSES) by July 30, 2002.

Dated: July 24, 2002.
Richard W. Surdi,
Acting Director, Office of Sustainable Fisheries, National Marine Fisheries Service.

[FR Doc. 02-19362 Filed 7-30-02; 8:45 am]

BILLING CODE 3510-22-S